Proclamation 8795 of April 2, 2012

World Autism Awareness Day, 2012

By the President of the United States of America

A Proclamation

Autism spectrum disorders (ASDs) affect young people and adults of every background, and millions of American families know the weight of their impact. On World Autism Awareness Day, we recognize ASDs as a growing public health issue and recommit to supporting those living with an ASD and their loved ones.

We have made great strides in our understanding of the autism spectrum, and today, children and adults with ASDs are leading independent and productive lives. However, barriers still remain for these individuals and their families. As a Nation, we share a responsibility to ensure persons living with ASDs have the opportunity to pursue their full measure of happiness and achieve their greatest potential.

Meeting the needs of Americans on the autism spectrum remains a priority for my Administration. Last September, I was proud to sign the Combating Autism Reauthorization Act, which provides critical funding for autism research, education, early detection, and support and services for children and adults. Under the Affordable Care Act, new insurance plans are required to cover autism screenings and developmental assessments for children at no additional cost to parents. Insurance companies can no longer deny coverage to children with pre-existing conditions, and young people can stay on their parents’ health insurance plan until age 26, easing financial burdens for families. With the Department of Education, we are making substantial investments in enhancing education for children on the autism spectrum—from early learning to higher education. And federally funded research continues to explore how we can improve independent living, develop assistive technology, and advance vocational rehabilitation services for individuals with autism. For additional information and resources, I encourage all Americans to visit www.HHS.gov/autism.

As new policies and bold actions break down old barriers and reshape attitudes, we move closer to a world free of discrimination and full of understanding for our family members and friends living with ASDs. On World Autism Awareness Day, let us reaffirm our dedication to supporting those on the autism spectrum and their families, and let us continue the work of ensuring all our people have a chance at achieving the American dream.

NOW, THEREFORE, I, BARACK OBAMA, President of the United States of America, by virtue of the authority vested in me by the Constitution and the laws of the United States, do hereby proclaim April 2, 2012, as World Autism Awareness Day. I encourage all Americans to learn more about autism and what they can do to support individuals on the autism spectrum and their families.

IN WITNESS WHEREOF, I have hereunto set my hand this second day of April, in the year of our Lord two thousand twelve, and of the Independence of the United States of America the two hundred and thirty-sixth.

[FR Doc. 2012-8343

Filed 4-4-12; 8:45 am]

Billing code 3295-F2-P